FEDERAL COMMUNICATIONS COMMISSION

47 CFR Part 73

[DA 05-1022; MB Docket No. 04-240; RM-10843]

Radio Broadcasting Services; Daytona Beach Shores, FL

AGENCY: Federal Communications Commission.

ACTION: Final rule.

SUMMARY: This document grants a petition filed by Carmine Tutera requesting the allotment of Channel 258A at Daytona Beach Shores, Florida, as its first local service. See 69 FR 42957, published July 19, 2004. The coordinates for Channel 258A at Daytona Beach Shores are 29-15-06 NL and 81-02-29 WL. There is a site restriction 10.1 kilometers (6.3 miles) northwest of Daytona Beach Shores.

DATES: Effective May 23, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-240, adopted April 6, 2005, and released April 8, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Florida, is amended by adding Daytona Beach Shores, Channel 258A.

Federal Communications Commission.
John A. Karousos,
Assistant Chief, Audio Division, Media Bureau.

[FR Doc. 05-8208 Filed 4-26-05; 8:45 am]

BILLING CODE 6712-01-P